DEPARTMENT OF ENERGY

Agency Information Collection Extension

AGENCY: U.S. Department of Energy.

ACTION: Notice of request for comments.

SUMMARY: The Department of Energy (DOE) invites public comment on a proposed collection of information that DOE is developing for submission to the Office of Management and Budget (OMB) pursuant to the Paperwork Reduction Act of 1995. The collection relates to voluntary carbon dioxide removal (CDR) purchase disclosures.

DATES: Comments regarding this proposed information collection must be received on or before May 28, 2024. If you anticipate any difficulty in submitting comments within that period, contact the person listed in the FOR FURTHER INFORMATION CONTACT section as soon as possible.

ADDRESSES: Written comments may be sent to Rory Jacobson, Acting Division Director for Carbon Dioxide Removal, Forrestal Building Rm. 4G-036, U.S. Department of Energy, 1000 Independence Ave. SW, Washington, DC 20585; or by telephone at (202) 585-1650; or by email at VoluntaryCDRchallenge@hq.doe.gov with “purchase disclosures” in the subject line.

FOR FURTHER INFORMATION CONTACT: Questions may be directed to Rory Jacobson, Acting Division Director for Carbon Dioxide Removal, Forrestal Building Rm. 4G-036, U.S. Department of Energy, 1000 Independence Ave. SW, Washington, DC 20585; or by telephone at (202) 585-1650; or by email at rory.jacobson@hq.doe.gov.

SUPPLEMENTARY INFORMATION:

Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-NEW;

(2) Information Collection Request Title: Voluntary Carbon Dioxide Removal (CDR) Purchase Disclosures;

(3) Type of Request: Regular collection;

(4) Purpose: DOE will request voluntary submissions from buyers of CDR services about their purchases, including but not limited to: purchasing entity, supplying entity, removal project details, removal certification details, purchase date, price, and quantity. This request is associated with the Voluntary Carbon Dioxide (CO2) Removal Purchasing (CO2RP) Challenge planned to launch in 2024. Information collected will enable DOE to measure the success of the challenge, publish resources improving public understanding of the CDR market, and administer programs stimulating growth of the CDR market;

(5) Annual Estimated Number of Respondents: 100 respondents;

(6) Annual Estimated Number of Total Responses: 700 responses;

(7) Annual Estimated Number of Burden Hours: 350 hours;

(8) Annual Estimated Reporting and Recordkeeping Cost Burden: $10,000.

Statutory Authority

Energy Policy Act of 2005 § 969D, 42 U.S.C. 16298d; Infrastructure Investment and Jobs Act, Public Law 117-58 § 41005 (2021).

Signing Authority

This document of the Department of Energy was signed on March 21, 2024, by Jennifer Wilcox, Principal Deputy Assistant Secretary, Office of Fossil Energy and Carbon Management, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 22, 2024.
Treena V. Garrett,
Federal Register Liaison Officer, U.S. Department of Energy.

[FR Doc. 2024-06484 Filed 3-26-24; 8:45 am]

BILLING CODE 6450-01-P